DEPARTMENT OF THE INTERIOR

Fish and Wildlife Service

[FWS-R6-ES-2019-N056; FXES11130600000-189-FF06E00000]

Endangered and Threatened Wildlife and Plants; Draft Recovery Plan for the Topeka Shiner

AGENCY: Fish and Wildlife Service, Interior.

ACTION: Notice of document availability for review and comment.

SUMMARY: We, the U.S. Fish and Wildlife Service, announce the availability of a draft recovery plan for Topeka shiner, a fish species listed as endangered under the Endangered Species Act. We are requesting review and comment from the public on this draft plan.

DATES: Comments on the draft recovery plan must be received on or before March 17, 2020.

ADDRESSES:

Obtaining documents: Copies of the draft recovery plan are available at http://www.fws.gov/endangered/species/recovery-plans.html. Alternatively, you may request a copy by U.S. mail from the Kansas Ecological Services Field Office, U.S. Fish and Wildlife Service, 2609 Anderson Avenue, Manhattan, KS 66502; or via telephone at 785-539-3474.

Submitting comments: Submit comments on the draft recovery plan via email to kansases@fws.gov, or to the Field Supervisor at the address above.

Viewing public comments: Comments and materials the Service receives will be available for public inspection by appointment during normal business hours at the address above.

FOR FURTHER INFORMATION CONTACT: Jason Luginbill, Field Supervisor, Kansas Ecological Services Field Office, at the above U.S. mail address, or by telephone at 785-539-3474.

SUPPLEMENTARY INFORMATION: We, the U.S. Fish and Wildlife Service (Service), announce the availability of a draft recovery plan for Topeka shiner (Notropis topeka), a fish species listed as endangered under the Endangered Species Act of 1973, as amended (ESA; 16 U.S.C. 1531 et seq.). We are requesting review and comment from the public on this draft plan.

Background

Restoring an endangered or threatened animal or plant to the point where it is again a secure, self-sustaining member of its ecosystem is a primary goal of the Service's endangered species program. In furtherance of this goal, we prepare recovery plans to help guide recovery efforts and to promote the conservation of the species. Recovery plans describe site-specific actions necessary for the conservation of the species, establish objective, measurable criteria that, when met, would result in a determination that the species no longer needs the protection of the ESA, and provide estimates of the time and cost for implementing the needed recovery actions.

The ESA requires recovery plans for listed species unless such a plan would not promote the conservation of a particular species. Section 4(f) of the ESA, as amended in 1988, requires that public notice and opportunity for public review and comment be provided during recovery plan development. We will consider all information we receive during a public comment period when preparing the recovery plan for approval. The Service and other Federal agencies will take these comments into consideration in the course of implementing an approved recovery plan.

It is our policy to request peer review of recovery plans. We will summarize and respond to the issues raised by the public and peer reviewers in an appendix to the approved recovery plan. We will revise the plan between draft and final stages as appropriate, including using information gathered from peer and public review.

Species Information

The Topeka shiner is a small minnow that lives and breeds in low-order prairie streams in the Great Plains States of South Dakota, Minnesota, Nebraska, Iowa, Kansas, and Missouri. It was listed as endangered under the ESA in 1998 (effective in January 1999) because of significant population declines due primarily to alteration of prairie stream hydrology and habitat degradation (63 FR 69008, December 15, 1998). Post-listing, increased survey efforts revealed additional populations not known at the time of listing, particularly in South Dakota and Minnesota, while losses and/or reductions appeared to continue in other States. Since 1999, the Topeka shiner has been documented as occupying over 200 small to mid-size streams. In 2004, the Service also designated critical habitat for the Topeka shiner in Minnesota, Nebraska, and Iowa; areas in South Dakota, Missouri, and Kansas were exempt from the designation due to the existence of management plans (69 FR 44736, July 27, 2004).

Recovery Strategy

The recovery vision for the Topeka Shiner is to have multiple resilient groups of populations, distributed across the species' range, that encompass adequate geographic and genetic diversity of the species to shield it from extirpation by catastrophic events and preserve adaptive potential. To summarize, the recovery criteria are designed to: (1) Maintain the species in currently known occupied habitats across a broad portion of its current ecological settings to preserve future adaptive capacity and potential; (2) maintain, increase, and expand populations in currently known occupied habitats to ensure species persistence by mitigating catastrophic events; (3) increase the ability of populations in currently known occupied habitats to resist impacts of stochastic events and persist long-term; (4) and ensure management plans are in place for each of nine population complexes or by state, to ensure future maintenance of those complexes, as well as that of the populations/sub-populations within them. To accomplish conservation and recovery of the Topeka shiner, recovery actions need to be implemented that include the following general categories: Habitat protection, management, and restoration; population management, augmentation, translocations, and reintroductions; monitoring; research; collaboration with stakeholders; and education and outreach.

Request for Public Comments

The Service solicits public comments on the draft recovery plan. All comments we receive by the date specified (see DATES) will be considered prior to approval of the plan. Written comments and materials regarding the plan should be sent via the means in the ADDRESSES section.

We are specifically seeking comments and suggestions on the following questions:

—Understanding that the time and cost presented in the draft recovery plan will be revised when localized recovery implementation strategies are developed, are the estimated time and cost to recovery realistic? Is the estimate reflective of the time and cost of similar previous actions that have already been implemented? Please provide suggestions or methods for determining a more accurate estimation of time and cost.

—Do the draft recovery criteria provide clear direction to partners on what is needed to recover the species? How could they be improved for clarity?

—Are the draft recovery criteria both objective and measurable given the information available for this species now and into the future? Please provide suggestions to improve the objectivity and measurability of criteria.

—Understanding that specific, detailed, and area-specific recovery actions will be developed in the localized recovery implementation strategies, do the draft recovery actions presented in the draft recovery plan generally cover the types of actions necessary to meet the recovery criteria? If not, what general actions are missing? Are any of the draft recovery actions unnecessary for achieving recovery? Are the draft recovery actions prioritized appropriately?

Public Availability of Comments

Before including your address, phone number, email address, or other personal identifying information in your comment, you should be aware that your entire comment—including your personal identifying information—may be made publicly available at any time. You may request at the top of your comment that we withhold this information from public review; however, we cannot guarantee that we will be able to do so.

Authority

The authority for this action is section 4(f) of the Endangered Species Act, 16 U.S.C. 1533(f).

Dated: September 19, 2019.
Noreen Walsh,
Regional Director, Lakewood, Colorado.

Editorial note: This document was received for publication by the Office of the Federal Register on January 14, 2020.

[FR Doc. 2020-00718 Filed 1-16-20; 8:45 am]

BILLING CODE 4333-15-P